FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—02/21/2006
20060637 | SI International, Inc. | Donald E. Reed and Barbara M. Reed | Zen Technology, Inc.
TRANSACTIONS GRANTED EARLY TERMINATION—02/22/2006
20060512 | BBA Group PLC | Teresa Allred | Ontic Engineering & Manufacturing, Inc.
20060596 | Stork N.V | Ray Theodore Townsend, Jr | Townsend Engineering Company.
20060607 | Ventiv Health, Inc | Adheris, Inc | Adheris, Inc.
20060610 | Carlyle Venture Partners II, L.P | Brazos Equity Fund, L.P | Comark Building Systems, Inc.
20060621 | H.B. Fuller Company | William J. Kyte | Chicago Adhesive Products Co., Roanoke Companies Group, Inc.
20060630 | AmeriCredit Corp | Bay View Capital Corporation | Bay View Acceptance Corporation.
20060641 | Permira Europe III L.P. 2 | Bear Stearns Merchant Banking Partners II, L.P | Aearo Technologies Inc.
20060642 | Warburg Pincus Private Equity X, L.P | JLL Partners Fund II, L.P | JLL Building Products, LLC.
20060652 | Carlyle Europe Partners II, L.P | Water Pik Technologies, Inc | Water Pik Technologies Inc.
TRANSACTIONS GRANTED EARLY TERMINATION—02/23/2006
20060544 | Panolam Holding Co | Nevamar Holdco, LLC | Nevamar Holdco, LLC.
20060603 | Crunch Equity Holding, LLC | Henkel KGaA | The Dial Corporation.
20060614 | Grifols, S,A | Michael H. Stough and Barbara O. Stough | Plasmacare, Inc.
20060638 | Canfor Corporation | New South Companies, Inc | New South Companies, Inc.
20060650 | TETRA Technologies, Inc | Julie R. Rodriguez and Roger Rodriguez | Epic Divers, Inc.; Epic Marine, LLC; Epic Oilfield Services LLC; Seahorse Services, Inc.
TRANSACTIONS GRANTED EARLY TERMINATION—02/27/2006
20060575 | HIP Foundation, Inc | Group Health Incorporated | Group Health Incorporated.
20060584 | Deutsche Post AG | Williams Lea Group Limited | Williams Lea Group Limited.
20060598 | Goldman Sachs Group, Inc | Sanyo Electric Co., Ltd | Sanyo Electric Co., Ltd.
20060623 | MMI Investments, L.P | ANDRX Corporation | ANDRX Corporation.
20060624 | MMI Investments, L.P | Dendrite Internation, Inc | Dendrite International, Inc.
20060657 | Kanbay International, Inc | Adjoined Consulting, Inc | Adjoined Consulting, Inc.
20060658 | ValueAct Capital Master Fund, L.P | Seitel, Inc | Seitel, Inc.
20060660 | Bain Capital Fund VIII, L.P | Texas Instruments Incorporated | Texas Instruments (Changzhou) Co., Ltd.; Texas Instruments (China) Company Limited; Texas Instruments de Mexico, S. de R.L. de C.V.; Texas Instruments Electronicos do Brasil Ltda.; Texas Instruments Holland B.V.; Texas Instruments Hong Kong Limited; Texas Instruments Italia S.p.A.; Texas Instruments Japan Limited; Texas Instruments Korea Limited; Texas Instruments Malaysia Sdn. Bhd.; Texas Instruments Semiconductor Tech. (Shanghai) Co., Ltd.
20060661 | Nuance Communications, Inc | Dictaphone Corporation | Dictaphone Corporation.
20060664 | Partners Limited | Maple Timber Acquisition LLC | Rumford Falls Power Company
20060669 | GTCR Fund VIII, L.P | Automatic Data Processing, Inc | ADP Claims Services Group, Inc.; ADP Hollander, Inc.; ADP Integrated Medical Solutions, Inc. c/o Automatic Data Processing, Inc.
TRANSACTIONS GRANTED EARLY TERMINATION—03/02/2006
20060654 | Toppoly Optoelectronics Corp | Koninklijke Phillips Electronics N.V | TPO Hong Kong Holding Ltd.
20060672 | Carlyle Venture Partners II, L.P | Vision Research, Inc | Vision Research, Inc.
TRANSACTIONS GRANTED EARLY TERMINATION—03/03/2006
20060628 | Emerson Electric Co | Artesyn Technologies, Inc | Artesyn Technologies, Inc.
20060639 | American Capital Strategies, Ltd | AAMCO Transmissions, Inc | AAMCO Transmissions, Inc.
20060649 | Time Warner Inc | The CW Network | The CW Network.
20060663 | Sumner Redstone | The CW Network | The CW Network.
20060679 | BASF Corporation | Air Products and Chemicals, Inc | Air Products and Chemicals, Inc.
20060683 | Marvell Technology Group Ltd | Bali Investments S.a.r.l | Avago Technologies Imaging IP (Singapore) Pte. Ltd.; Avago Technologies Imaging (U.S.A.) Inc.; Avago Technologies India Private Limited.
20060687 | Lagardere SCA | Time Warner Inc | iPublish Inc.; Little, Brown and Company (Inc.); Publisher's Advertising LLC; Time Warner Book Group Inc.; TWBG Holdings Inc.; Warner Books, Inc.
20060688 | Kenneth D. Peterson, Jr | Choice One Communications Inc | Choice One Communications Inc.
20060692 | Wolseley pic | Richard S. Jackson, II | K & A Lumber Company, Inc.
20060693 | Wolseley pic | Richard S. Jackson, III | K & A Lumber Company, Inc.
20060695 | ArcLight Energy Partners Fund II, L.P | FirstEnergy Corp | MYR Group, Inc.
20060703 | Carlyl Partners IV, L.P | Donald Rubin | MultiPlan, Inc.
20060705 | Darwin Deason, c/o Affiliated Computer Services, Inc | Affiliated Computer Services, Inc | Affiliated Computer Services, Inc.
20060709 | Protective Life Corporation | JP Morgan Chase & Co | Chase Insurance Direct, Inc.; Chase Insurance Life & Annuity Company; Chase Life & Annuity Company; Chase Life & Annuity Company of New York; Investors Brokerage Services, Inc.; PMG Asset Management, Inc.; PMG Securities Corporation.
20060717 | MarineMax, Inc | Surfside 3 Marina, Inc | Surfside 3 Marina, Inc.

FOR FURTHER INFORMATION CONTACT: Sanda M. Peay, Contact Representative or Renee Hallman, Contact Representative. Federal Trade Commission, Premerger Notification Office, Bureau of Competition, Room H-303, Washington, DC 20580. (202) 326-3100.

By Direction of the Commission.
Donald S. Clark,
Secretary.

[FR Doc. 06-2474 Filed 3-14-06; 8:45 am]

BILLING CODE 6750-01-M